DEPARTMENT OF THE INTERIOR

Bureau of Land Management

[LLAZ931000. L51010000. FX0000. LVRWA09A2370; AZA34425]

Notice of Segregation of Public Lands for the Proposed Hyder Valley Solar Energy Project in Maricopa County, AZ

AGENCY: Bureau of Land Management, Interior.

ACTION: Notice.

SUMMARY: Pursuant to Bureau of Land Management (BLM) regulations, the BLM is segregating approximately 3,399.76 acres of public lands located in the State of Arizona from all forms of appropriation under the public land laws, including the Mining Law of 1872, but not the mineral leasing or mineral materials sales laws, for a period of up to 2 years. This is for the purpose of processing one solar energy right-of-way (ROW) application submitted by Pacific Solar Investments, LLC, to construct and operate the Hyder Valley Solar Energy Project in Maricopa County, Arizona.

DATES: Effective Date: This segregation is effective on May 24, 2012.

FOR FURTHER INFORMATION CONTACT: Eddie Arreola, Supervisory Project Manager; Telephone: 602-417-9505; Address: 1 North Central Avenue, Suite 800, Phoenix, Arizona 85004-4427, or email: earreola@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is segregating the following described public lands located in the State of Arizona, subject to valid existing rights, from all forms of appropriation under the public land laws, including the Mining Law, but not the mineral leasing or the mineral materials sales laws.

Gila and Salt River Meridian, Arizona

T. 4 S., R. 9 W.,

Sec. 7;

Sec. 18, lots 1 to 4, inclusive, NE¼, E½NW¼, E½SW¼;

Sec. 19, lots 2 to 4, inclusive, S½NE¼, SE1/4NW¼, E1/2SW¼, SE¼;

Sec. 20, SW¼NW¼, W½SW¼, SE¼SW¼;

Sec. 29, NW¼, W½SW¼;

Sec. 30;

Sec. 31, lots 1 to 3, inclusive, NE¼, E½NW¼, NE¼SW¼, N½SE¼.

T. 4 S., R. 10 W.,

Sec. 13, NE¼, N½SE¼.

The areas described aggregate 3,399.76 acres, more or less, in Maricopa County. In order to process the ROW application filed on the above described lands, the BLM finds that it is necessary for the orderly administration of the public lands to segregate the lands included in the application under the authority contained in 43 CFR2091.3-1(e) and 43 CFR 2804.25(e) for a period of up to 2 years, subject to valid existing rights. This 2-year segregation period commences on May 24, 2012. The public lands involved in this closure will be segregated from all forms of appropriation under the public land laws, including the Mining Law, but not the mineral leasing or material sales laws. The BLM has determined that this segregation is necessary for the orderly administration of the public lands.

The segregation period will terminate and the lands will automatically reopen to all forms of appropriation under the public land laws, including the mining laws, when one of the following events occurs: (1) Upon the issuance of a decision by the BLM authorized officer granting, granting with modifications, or denying the application for a right-of-way; (2) Upon publication of a Federal Register notice of termination of the segregation; or (3) Without further administrative action at the end of the segregation provided for in this Federal Register notice initiating the segregation, whichever occurs first. The segregation is effective only for a period of up to 2 years, without the possibility of extension.

The lands to be segregated are identified in the legal description provided above.

Authority: 43 CFR 2091.3-1(e), 43 CFR 2804.25(e).

Raymond Suazo,
State Director.

[FR Doc. 2012-12569 Filed 5-23-12; 8:45 am]

BILLING CODE 4310-32-P